DEPARTMENT OF STATE

[Public Notice 4784]

Shipping Coordinating Committee

The Department of State's Subcommittee on Ocean Dumping of the Shipping Coordinating Committee will hold an open meeting on Tuesday, October 26, 2004, from 2 p.m. to 4 p.m. to obtain public comment on the issues to be addressed at the November 1-5, 2004, Twenty-sixth Consultative Meeting of Contracting Parties to the London Convention. The London Convention of 1972 is the global international treaty regulating ocean dumping. The meeting will also review the results of the Twenty-seventh Scientific Group Meeting of the London Convention that was held in Mombasa, Kenya from May 3-7, 2004.

In addition, participants at this meeting will discuss plans for ratification, by the United States, of the 1996 London Protocol. The Protocol is a treaty signed by the United States in 1998 that is separate from the London Convention. It sets forth a regime that is more comprehensive, more stringent, and more protective of the marine environment than the London Convention.

The public meeting will be held at the U.S. Environmental Protection Agency offices located at 1201 Constitution Avenue, NW., Washington, DC 20004 in Room 1117A. Interested members of the public are invited to attend, up to the capacity of the room. Please check in with the EPA security desk when you enter the building.

For further information, please contact: Patrick Cotter, Office of International Affairs, U.S. Environmental Protection Agency, Mail Code 2660R, 1200 Pennsylvania Avenue, NW., Washington, DC 20460, telephone (202) 564-6414, e-mail cotter.patrick@epa.gov.

Dated: September 2, 2004.
Clayton Diamond,
Executive Secretary, Shipping Coordinating Committee, Department of State.

[FR Doc. 04-20523 Filed 9-9-04; 8:45 am]

BILLING CODE 4710-07-P